DEPARTMENT OF HEALTH AND HUMAN SERVICES

National Institutes of Health

Center for Scientific Review; Amended Notice of Meeting

Notice is hereby given of a change in the meeting of the Center for Scientific Review Special Emphasis Panel, PAR Panel: Topics in Neurodegeneration and Brain Injury June 16, 2025, 09:00 a.m. to June 17, 2025, 06:00 p.m., National Institutes of Health, Rockledge II, 6701 Rockledge Drive, Bethesda, MD, 20892 which was published in the Federal Register on May 20, 2025, 90 FR 21486 Doc No. 2025-08980.

This meeting is being amended to change the contact person from Simonetta Camandola to Cynthia McOliver, Scientific Review Officer, Center for Scientific Review, National Institutes of Health, 6701 Rockledge Drive, Bethesda, MD 20892, (301)-594-2081, mcolivercc@csr.nih.gov. The meeting is closed to the public.

Dated: May 30, 2025.
Bruce A. George,
Program Analyst, Office of Federal Advisory Committee Policy.

[FR Doc. 2025-10142 Filed 6-3-25; 8:45 am]

BILLING CODE 4140-01-P